DEPARTMENT OF JUSTICE

Notice of Lodging of Consent Decree Under the Comprehensive Environmental Response, Compensation, and Liability Act

Notice is hereby given that the United States, on behalf of the United States Bankruptcy Court for the Western District of Pennsylvania, in In re H.K. Porter Company, Inc., Bankruptcy Action No. 91-468-WWB (PGH), on January 16, 2001. This Settlement Agreement resolves the claims of the United States against H.K. Porter Company, Inc. (“H.K. Porter”), pursuant to the Comprehensive Environmental Response, Compensation, and Liability Act (“CERCLA”), 42 U.S.C. 9601, et. seq.. The Settlement Agreement concerns H.K. Porter's ownership and operation of the Southern Asbestos site located at 426 Salem Road, Bennettsville, Marlboro County, South Carolina (the “Site”).

The Settlement Agreement provides that pursuant to the Fourth Amended Creditors Committee Plan of Reorganization, H.K. Porter will pay $215,071 as a Class VII unsecured claim to the United States in reimbursement of response costs incurred by the United States at the Site. The Settlement Agreement further provides that the United States covenants not to bring a civil action or take administrative action against H.K. Porter pursuant to CERCLA, 42 U.S.C. 9606 and 9607, or the Resource Conservation and Recovery Act, 42 U.S.C. 6973, relating to the Site.

The Department of Justice will receive, for a period of thirty (30) days from the date of this publication, comments relating to the proposed Consent Decree. Comments should be addressed to the Assistant Attorney General for the Environment and Natural Resources Division, Department of Justice, Washington, D.C. 20530, and should refer to In re H.K. Porter Company, Inc. DOJ #90-11-3-07062.

The proposed Consent Decree may be examined at the United States Trustees Office, Western District of Pennsylvania, 1000 Liberty Avenue, Room 319, Pittsburgh, PA 15222. A copy of the proposed Consent Decree may be obtained by mail from the Department of Justice consent Decree Library, P.O. Box 7611, Washington, DC 20044. In requesting a copy, please refer to the reference number given above and enclose a check in the amount of $1.50 (25 cents per page reproduction costs), payable to the Consent Decree Library.

Ellen M. Mahan,
Assistant Section Chief, Environmental Enforcement Section, Environment and Natural Resources Division.

[FR Doc. 01-3269 Filed 2-7-01; 8:45 am]

BILLING CODE 4410-15-M